DEPARTMENT OF ENERGY

Federal Energy Regulatory Commission

18 CFR Part 358

[Docket No. RM07-1-000]

Standards of Conduct for Transmission Providers

December 15, 2008.

AGENCY: Federal Energy Regulatory Commission, DOE.

ACTION: Order granting an extension of time and providing notice of change in personnel.

SUMMARY: On October 16, 2008, the Commission issued Order No. 717, which revised the Standards of Conduct for natural gas and electric transmission providers.¹ Order No. 717 became effective on November 26, 2008, 30 days after publication in the Federal Register. According to Order No. 717, transmission providers must be in full compliance with the Standards by that date, with the exception of the posting and training requirements, with which transmission providers must be in full compliance no later than 60 days from the date of publication in the Federal Register, or December 26, 2008. On November 17, 2008, the Edison Electric Institute (EEI) and the Interstate Natural Gas Association of America (INGAA) jointly filed a motion for extension of certain compliance deadlines under Order No. 717. This order grants EEI's and INGAA's request to extend the time for compliance with 18 CFR 358.8(c)(1), 358.7(d), 358.7(h), and 358.8(b)(2) to January 30, 2009; and for a grace period until February 27, 2009 for training of new employees hired before January 30, 2009. In addition, this order provides notice of a change in personnel.

¹ Standards of Conduct for Transmission Providers, Order No. 717, 73 FR 63796 (Oct. 27, 2008), FERC Stats. & Regs. ¶ 31,280 (2008) (Order No. 717).

DATES: Compliance Date: The time for compliance with 18 CFR 358.8(c)(1), 358.7(d), 358.7(h), and 358.8(b)(2) is extended to January 30, 2009 and new employees hired before January 30, 2009 shall be trained by February 27, 2009.

FOR FURTHER INFORMATION CONTACT: Mason Emnett (Legal Information), Office of the General Counsel, Federal Energy Regulatory Commission, 888 First Street, NE., Washington, DC 20426, (202) 502-6540.

SUPPLEMENTARY INFORMATION: 1. On October 16, 2008, the Commission issued Order No. 717, which revised the Standards of Conduct for natural gas and electric transmission providers.² The Commission stated that Order No. 717 would become effective 30 days after publication in the Federal Register, that is, November 26, 2008.³ According to the Order, transmission providers must be in full compliance with the Standards by that date, with the exception of the posting and training requirements, with which transmission providers must be in full compliance no later than 60 days from the date of publication in the Federal Register, or December 26, 2008.⁴

² Standards of Conduct for Transmission Providers, Order No. 717, 73 Fed. Reg. 63796 (Oct. 27, 2008), FERC Stats. & Regs. ¶ 31,280 (2008) (Order No. 717).

³ Id. P 330.

⁴ Id.

2. On November 17, 2008, the Edison Electric Institute (EEI) and the Interstate Natural Gas Association of America (INGAA) jointly filed a motion for extension of certain compliance deadlines under Order No. 717 to January 30, 2009. Specifically, EEI and INGAA request an extension of (1) the deadline to complete revisions to compliance procedures and training materials; (2) the compliance deadline for transmission providers to post the written procedures implementing the Standards on their Internet Web sites under section 358.7(d); (3) the compliance deadline for distribution of procedures to the employees listed in section 358.8(b)(2); and, (4) the compliance deadline for recordation of information exchanges under section 358.7(h). EEI and INGAA further request an initial grace period until February 27, 2009 for the training of new employees that are hired before the transmission provider develops the new training materials and procedures. Thus, the deadline for training employees hired before January 30, 2009 would be extended to February 27, 2009, but all new hires on or after January 30, 2009 would receive training within 30 days of their employment date.

3. EEI and INGAA state that a significant commitment of time and resources is necessary to analyze the changes made under Order No. 717, to revise procedures and training materials, to implement the changes in the compliance programs, and to train new employees. And, because the current deadlines fall during the end-of-year holiday season, many employees that are needed to complete these tasks and meet these compliance deadlines have already committed to take annual leave over the holidays.

4. The Commission recognizes that due to the publication date of Order No. 717 in the Federal Register, the current compliance deadlines do fall during the end-of-year holiday season, making it difficult for companies to have the staff and resources available to meet the compliance requirements of the Order. Accordingly, upon consideration of the concerns raised by EEI and INGAA, the Commission will grant EEI's and INGAA's requests (1) to extend the time for compliance with 18 CFR 358.8(c)(1), 358.7(d), 358.7(h), and 358.8(b)(2) to January 30, 2009; and (2) for a grace period until February 27, 2009 for training of new employees hired before January 30, 2009.

5. As a separate matter, this order is intended to serve as a notice to participants in this proceeding that they should contact for now Mason Emnett in the Office of General Counsel (OGC) at 202-502-6540 for all future requests for further information on Order No. 717, and should also watch for future notices of other OGC contacts. Likewise, any inquiries regarding the interpretation of the Standards should be directed to the Commission's Help Desk ⁵ and should not be directed to the Commission's Enforcement Hotline, unless the caller wishes to report a violation of the Standards.

⁵ Questions can be submitted to the Help Desk via an online form available at http://www.ferc.gov/contact-us/compliance-help-desk.asp.

The Commission Orders

The Commission hereby grants the requested extensions of certain compliance deadlines in Order No. 717, as discussed in the body of the order.

By the Commission.
Kimberly D. Bose,
Secretary.

[FR Doc. E8-30257 Filed 12-19-08; 8:45 am]

BILLING CODE 6717-01-P